DEPARTMENT OF ENERGY

Federal Energy Regulatory Commission

[Docket No. CP14-115-000; PF13-3-000]

Notice of Application: Elba Express Company, L.L.C.

Take notice that on March 21, 2014, Elba Express Company, L.L.C. (EEC), 569 Brookwood Village, Suite 749, Birmingham, AL 35209, filed an application under section 7(c) of the Natural Gas Act to add north-to-south transportation capacity to the existing EEC pipeline system by constructing and operating additional compression at EEC's existing Hartwell Compressor Station in Hart County, Georgia, and constructing and operating two new compressor stations in Jefferson and Effingham Counties, Georgia (EEC Modification Project). EEC is proposing the EEC Modification Project, in part to enable EEC to transport domestically-produced natural gas on a firm basis to Elba Liquefaction Company, L.L.C. (ELC) and Southern LNG Company, L.L.C. (SLNG)'s proposed Elba Liquefaction Project.¹ The filing is available for review at the Commission in the Public Reference Room or may be viewed on the Commission's Web site at http://www.ferc.gov using the “eLibrary” link. Enter the docket number excluding the last three digits in the docket number field to access the document. There is an “eSubscription” link on the Web site that enables subscribers to receive email notification when a document is added to a subscribed docket(s). For assistance, please contact FERC Online Support at FERCOnlineSupport@ferc.gov or toll free at (866) 208-3676, or for TTY, contact (202) 502-8659.

¹ ELC and SLNG filed a companion, Docket No. CP14-103-000, on March 10, 2014 for the Elba Liquefaction Project.

Any questions regarding the EEC Modification Project should be directed to Glenn A. Sheffield, Director—Rates & Regulatory, Elba Express Company, L.L.C., 569 Brookwood Village, Suite 749, Birmingham, AL 35209 or at (205) 325-3813 (phone), or (205) 327-2253(fax), or glenn_sheffield@kindermogan.com or Patricia F. Francis, Assistant General Counsel, Elba Express Company, L.L.C., 569 Brookwood Village, Suite 749, Birmingham, AL 35209 or at (205) 325-7696 (phone), or (205) 327-2253(fax), or patricia_francis@kindermorgan.com.

On March 1, 2013, the Commission staff granted EEC's request to utilize the National Environmental Policy Act (NEPA) Pre-Filing Process and assigned Docket No. PF13-3-000 to staff activities involving the project. Now, as of the filing of this application on March 21, 2014 (CP14-115-000), the NEPA Pre-Filing Process for this project has ended. From this time forward, this proceeding will be conducted in Docket No. CP14-115-000, as noted in the caption of this Notice.

Pursuant to section 157.9 of the Commission's rules (18 CFR 157.9), within 90 days of this Notice, the Commission staff will either: complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy regulatory Commission, 888 First Street NE., Washington, DC 20426.

Comment Date: April 24, 2014.

Dated: April 3, 2014.
Kimberly D. Bose,
Secretary.

[FR Doc. 2014-08033 Filed 4-9-14; 8:45 am]

BILLING CODE 6717-01-P